DEPARTMENT OF ENERGY

Office of Fossil Energy

[FE Docket No. 04-26-NG]

The Brooklyn Union Gas Company; Order Granting Long-Term Authority To Import Natural Gas From Canada

AGENCY: Office of Fossil Energy, DOE.

ACTION: Notice of order.

SUMMARY: The Office of Fossil Energy (FE) gives notice that on March 30, 2004, it issued DOE/FE Order No. 1960 granting the Brooklyn Union Gas Company authority to import up to 24,369 million cubic feet (Mcf) per day of natural gas from Canada, from April 1, 2004, to April 1, 2005, and up to 37,225 Mcf per day from April 1, 2005, to April 1, 2007, in accordance with its February 4, 2004, gas sales agreement with BP Canada Energy Company.

This Order may be found on the FE Web site at http://www.fe.doe.gov(select gas regulation). It is also available for inspection and copying in the Office of Natural Gas & Petroleum Import & Export Activities Docket Room, 3E-033, Forrestal Building, 1000 Independence Avenue, SW., Washington, DC 20585-0334, (202) 586-9478. The Docket Room is open between the hours of 8 a.m. and 4:30 p.m., Monday through Friday, except Federal holidays.

Issued in Washington, DC, April 6, 2004.
Yvonne Caudillo,
Acting Manager, Natural Gas Regulation, Office of Natural Gas & Petroleum Import & Export Activities, Office of Fossil Energy.

[FR Doc. 04-8434 Filed 4-13-04; 8:45 am]

BILLING CODE 6450-01-P